DEPARTMENT OF ENERGY

Federal Energy Regulatory Commission

[Docket No. RP98-40-028]

Panhandle Eastern Pipe Line Company; Notice of Offer of Settlement

July 2, 2001.

Take notice that on June 22, 2001, Panhandle Eastern Pipe Line Company (Panhandle), on behalf of itself and Sponsoring Parties,¹ filed a Stipulation and Agreement (Settlement) under Rule 602 of the Commission's Rules of Practice and Procedure in the captioned docket. The Settlement is designed to resolve all matters associated with the payment of Kansas ad valorem tax refunds on Panhandle's system for the period before June 28, 1988 due to the Commission's implementation of the decision of the United States Court of Appeals for the District of Columbia Circuit in Public Service Company of Colorado.² A copy of the Settlement is on file with the Commission and is available for public inspection in the Public Reference Room. The Settlement may be viewed on the web at http://www.ferc.fed.us/online/rims.htm (call 202-208-2222 for assistance).

¹ Other than Panhandle, Sponsoring Parties include Anadarko Petroleum Corporation, OXY USA Inc., Amoco Production Company, Pioneer Natural Resources USA, Inc., Duke Energy Services, Inc., Dorchester Hugoton, Ltd., RME Corporation (formerly Union Pacific Resources Company), Biedenharn Petroleum, Inc., Midgard Energy Company, Barrett Energy, Inc. Helen C. Dyer/Saturn Trust, Barbara J. Wilson, Inc., Marcus Barrett III, William O. Barrett, Helmerich & Payne, Inc., Kaiser—Francies Oil Company, Mobil Oil Corporation, Barbara J. Wilson Estate, Joyce A. Mims, Texaco Inc., Anna B. Chamberlain Trust, Credo Exploration Program Ltd. 1979, Carle W. Hoffman, Hoffman Oil Company, First National Oil, Inc., Cabot Oil & Gas Corp., Lee Banks d/b/a Banks Oil Company, Robert Greenberg, BJW Irrevocable Trust No. 1, W.B. Osborn III, CLX Energy Inc., Reserve Pipeline, Inc., Ethel Huffman McKee, et al., Beren Corporation, Central Illinois Public Service Co., ProLiance Energy, Inc., Indiana Office of Utility Consumer Counsel, SEMCO Energy Gas Company, Northern Indiana Public Service Company, Northern Indiana Fuel & Light Company, Kokomo Gas and Fuel Company, Michigan Gas Storage Company, MCN Energy, East Ohio Gas Company, Kansas Gas Service Company, and the Kansas Corporation Commission.

² Public Service Co. of Colorado, et al. 80 FERC ¶ 61,264 (1997), reh'g denied, 82 FERC ¶ 61,058 (1998). Appeal pending. Anadarko Petroleum Corporation v. FERC, Case No. 98-1227 et al.

Participation in the Settlement by the first sellers listed on the exhibits to the Settlement is voluntary. Likewise, customers of Panhandle, state regulatory commissions and related entities may elect to opt-out of the settlement. If a state regulatory commission opts out of the settlement, certain Settlement Amounts related to local distribution companies subject to that commission's jurisdiction will be adjusted in accordance with the terms of the settlement.

Any First Seller with a maximum refund obligation of less than $50,000 as of January 31, 2001 will be exempt from any obligation to pay that amount. Large First Sellers (i.e., those with a refund obligation in excess of $400.000) will receive a credit of 25% of their refund obligation. Small First Sellers with a refund obligation between $300,000 and $400.000 will receive a $100,000 credit while Small First Sellers with a refund obligation between $50,00 and $300.000 will receive a $50,000 credit and pay 80% of the remaining amount.

In accordance with Section 385.602(f), initial comments are due by July 12, 2001, and any reply comments are due by July 23, 2001.

David P. Boergers,
Secretary.

[FR Doc. 01-17066 Filed 7-6-01; 8:45 am]

BILLING CODE 6717-01-M